DEPARTMENT OF DEFENSE

Department of the Air Force

[Docket ID USAF-2012-0004]

Privacy Act of 1974; System of Records

AGENCY: Department of the Air Force, DoD.

ACTION: Notice to alter a system of records.

SUMMARY: The Department of the Air Force proposes to alter a system of records in its inventory of record systems subject to the Privacy Act of 1974 (5 U.S.C. 552a), as amended.

DATES: The proposed action will be effective on March 22, 2012 unless comments are received that would result in a contrary determination.

ADDRESSES: You may submit comments, identified by docket number and title, by any of the following methods:

• Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information officer, ATTN: SAF/CIO A6, 1800 Air Force Pentagon, Washington, DC 20330-1800, or by phone at 202-404-6575.

SUPPLEMENTARY INFORMATION: The Department of the Air Force's notices for systems of records subject to the Privacy Act of 1974 (5 U.S.C. 552a), as amended, have been published in the Federal Register and are available from the address in FOR FURTHER INFORMATION CONTACT.

The proposed systems reports, as required by 5 U.S.C. 552a(r) of the Privacy Act, were submitted on February 14, 2012 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: February 14, 2012.
Aaron Siegel,
Alternate OSD Federal Register Liaison Officer, Department of Defense.

F044 AF TRANSCOM A

System name:

Joint Medical Evacuation System (TRAC²ES) (June 16, 2003, 68 FR 35646).

Changes:

* * * * *

Category of individuals covered by the system:

Delete entry and replace with “All Active Duty, Air National Guard, Army National Guard and Reserve components of Air Force, Army, Navy, Marine Corps, Coast Guard, Public Health Services or National Oceanic and Atmospheric Administration who have been called to Federal Service, retired personnel of all seven uniformed services, and their family members. All Veterans who are transported to or from a Department of Veterans Affairs (DVA) medical facility or of transporting the remains of deceased Veterans who died after transport to a DVA Medical facility. All Active Duty and Reserve components of Air Force, Army, Navy and Coast Guard and other uniformed service members of the North Atlantic Treaty Organization (NATO) and Secretary of Defense identified coalition National forces, DoD civilian employees, contractors supporting global U.S. operations, Department of Defense detainees and Prisoners of War. Individuals who are employed or contracted by the Federal Emergency Management Agency (FEMA), Department of Homeland Security (DHS), Department of Health and Human Services (DHHS) or other United States (US) government agencies providing health care service, and patient movement in support of identified patients during Presidential disaster or emergency declaration. Employees and their dependents of any mission essential agency of the U.S. Government including non-appropriated fund and Exchange Service employees, Air Reserve technicians performing duties as civil servants, family members (dependents) who reside overseas and their civil service personnel sponsor stationed overseas requiring transfer to another medical treatment facility at the request of U.S. Government medical treatment facilities.”

Categories of records in the system:

Delete entry and replace with “TRAC²ES contains information reported by the transferring medical facility which includes, patient identity, service affiliation and grade or status, name, Social Security Number (SSN), gender, medical diagnosis, medical condition, special procedures or requirements needed, medical specialties required, administrative considerations, personal considerations, home address of patient and/or duty station, and other information having an impact on the transfer.”

Authority for maintenance of the system:

Delete entry and replace with “10 U.S.C. 8013, Secretary of the Air Force; 10 U.S.C. Chapter 55, Medical and Dental Care; 10 U.S.C. 2641, Transportation of Certain Veterans on DoD Aeromedical Evacuation Aircraft; DoD Directive 5154.6, Armed Services Medical Regulating; DoD Instruction 6000.11, Patient Movement; and E.O. 9397 (SSN), as amended.”

* * * * *

Storage:

Delete entry and replace with “Paper records in file folders and electronic storage media.”

Retrievability:

Delete entry and replace with “By individual's name and SSN.”

* * * * *

System manager(s) and address:

Delete entry and replace with “System Administrator, United States Transportation Command, Office of the Command Surgeon, 203 West Losey Street, Suite 1700, Scott AFB, IL 62225-5357.”

* * * * *

Record source categories:

Delete entry and replace with “Transferring and receiving treatment facilities, medical regulating offices, evacuation offices, agencies and commands relevant to the patient transfer, and from the Military Health Information System.”

* * * * *

[FR Doc. 2012-3814 Filed 2-17-12; 8:45 am]

BILLING CODE 5001-06-P